DEPARTMENT OF ENERGY

Federal Energy Regulatory Commission

[Docket Nos. OR15-25-000]

BP Products North America Inc. v. Sunoco Pipeline L.P.; Notice of Complaint

Take notice that on April 30, 2015, pursuant to section 1(4), 1(6), 3(1), 8, 9, 13(1), 15(1), and 16(1) of the Interstate Commerce Act, 49 U.S.C. App. §§ 1(4), 1(6), 3(1), 8, 9, 13(1), 15(1), and 16(1); Rule 206 of the Rules of Practice and Procedure of the Federal Energy Regulatory Commission (Commission), 18 CFR 385.206; and section 343.2 of the Procedural Rules Applicable to Oil Pipeline Proceedings, 18 CFR 343.2, BP Products North America Inc. (Complainant) filed a formal complaint against Sunoco Pipeline L.P. (Sunoco or Respondent), challenging the justness and reasonableness of: (1) Executed Throughput and Deficiency Agreements with certain shippers; and (2) Sunoco's revisions to its prorationing policy for its pipeline operating between Marysville, Michigan and Toledo, Ohio (Sunoco Pipeline), as more fully explained in the complaint.

The Complainant certifies that copies of the complaint were served on the Respondents.

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. The Respondent's answer and all interventions, or protests must be filed on or before the comment date. The Respondent's answer, motions to intervene, and protests must be served on the Complainants.

The Commission encourages electronic submission of protests and interventions in lieu of paper using the “eFiling” link at http://www.ferc.gov. Persons unable to file electronically should submit an original and 5 copies of the protest or intervention to the Federal Energy Regulatory Commission, 888 First Street NE., Washington, DC 20426.

This filing is accessible on-line at http://www.ferc.gov, using the “eLibrary” link and is available for review in the Commission's Public Reference Room in Washington, DC. There is an “eSubscription” link on the Web site that enables subscribers to receive email notification when a document is added to a subscribed docket(s). For assistance with any FERC Online service, please email FERCOnlineSupport@ferc.gov, or call (866) 208-3676 (toll free). For TTY, call (202) 502-8659.

Comment Date: 5:00 p.m. Eastern Time on June 1, 2015.

Dated: May 1, 2015.
Kimberly D. Bose,
Secretary.

[FR Doc. 2015-10971 Filed 5-6-15; 8:45 am]

BILLING CODE 6717-01-P